DEPARTMENT OF JUSTICE

Notice of Lodging of Consent Decree Under the Comprehensive Environmental Response, Compensation, and Liability Act (“CERCLA”)

In accordance with Departmental policy, 28 CFR 50.7, notice is hereby given that on September 25, 2006, a proposed Consent Decree (“Decree”) in United States of America v. Union Pacific Railroad Company, Civil Action No. 1:06-CV-00115-BSJ was lodged with the United States District Court for the District of Utah, Central Division.

The Decree resolves the United States' claims against Union Pacific Railroad Company (“Union Pacific”) pursuant to sections 106 and 107(a) of the Comprehensive Environmental Response, Compensation, and Liability Act (“CERCLA”), as amended, 42 U.S.C. §§ 9606, 9607(a), seeking (1) the performance of studies and response work by the Defendant at the Ogden Rail Yard Site (“Site”) in Weber County, Utah, consistent with the National Oil and Hazardous Substances Pollution Contingency Plan, as amended, 40 CFR part 300 (“National contingency Plan”); and (2) to recover funds expended by the United States in response to a release and threatened release of hazardous substances at the Site.

Under the terms of the CD, Union Pacific will reimburse EPA for outstanding response costs of $20,779 and perform cleanup work at the Site valued at $4,500,000. Portions of the Site are contaminated with polyaromatic hydrocarbons, solvents, and metals including lead. In addition to paying for outstanding response costs and performing cleanup work at the Site, Union Pacific will reimburse EPA for all future oversight costs.

The Department of Justice will receive for a period of thirty (30) days from the date of this publication comments relating to the Decree. Comments should be addressed to the Assistant Attorney General, Environment and Natural Resources Division, P.O. Box 7611, U.S. Department of Justice, Washington, DC 20044-7611, and should refer to United States of America v. Union Pacific Railroad Company, D.J. Ref. 90-11-2-08568.

The Decree may be examined at the Office of the United States Attorney, District of Utah, 185 South State Street, Suite 400, Salt Lake City, Utah 84111. During the public comment period, the Decree may also be examined on the following Department of Justice Web site, http://www.usdoj.gov/enrd/Consent_Decrees.html.

A copy of the Decree may also be obtained by mail from the consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $4.50 payable to the U.S. Treasury.

Robert D. Brook,
Assistant Chief, Environmental Enforcement Section, Environment and Natural Resources Division.

[FR Doc. 06-8746 Filed 10-17-06; 8:45 am]

BILLING CODE 4410-15-M